COMMITTEE FOR PURCHASE FROM PEOPLE WHO ARE BLIND OR SEVERELY DISABLED

Procurement List; Proposed Additions

AGENCY: Committee for Purchase From People Who Are Blind or Severely Disabled.

ACTION: Proposed Additions to Procurement List.

SUMMARY: The Committee is proposing to add to the Procurement List products and services to be furnished by nonprofit agencies employing persons who are blind or have other severe disabilities.

Comments Must be Received on or Before: July 16, 2006.

ADDRESSES: Committee for Purchase From People Who Are Blind or Severely Disabled, Jefferson Plaza 2, Suite 10800, 1421 Jefferson Davis Highway, Arlington, Virginia 22202-3259.

For Further Information or to Submit Comments Contact: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions.

If the Committee approves the proposed additions, the entities of the Federal Government identified in the notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Product/NSNs: Bag, Fecal Incontinent.

6530-00-NSH-0044.

NPA: Work, Incorporated, North Quincy, Massachusetts.

Contracting Activity: Veterans Affairs National Acquisition Center, Hines, Illinois.

Product/NSNs: SKILCRAFT Cellulose Mop & Refill.

M.R. 1099.

M.R. 1089.

SKILCRAFT Melamine Mop & Refill.

M.R. 1098.

M.R. 1088.

NPA: L.C. Industries For The Blind, Inc., Durham, North Carolina.

Contracting Activity: Defense Commissary Agency (DeCA), Fort Lee, Virginia.

Services

Service Type/Location: Custodial Services, Army Corps of Engineers—Eastern Area Office, 926 SW. Adams Street (Suite 110), Peoria, Illinois.

NPA: Community Workshop and Training Center, Inc., Peoria, Illinois.

Contracting Activity: U.S. Army Corps of Engineers, Rock Island, Illinois.

Service Type/Location: Custodial Services, Frank Peregory U.S. Army Reserve Center, 1634 Cherry Avenue, Charlottesville, Virginia.

NPA: WorkSource Enterprises, Charlottesville, Virginia.

Contracting Activity: 99th Regional Support Command, Coraopolis, Pennsylvania.

Service Type/Location: Custodial Services, Social Security Administration Building, 88 South Laurel Street, Hazelton, Pennsylvania.

NPA: United Rehabilitation Services, Inc., Wilkes-Barre, Pennsylvania.

Contracting Activity: GSA Public Buildings Service, Region 3, Pittsburgh, Pennsylvania.

Service Type/Location: Custodial Services, Tacoma National Cemetery,18600 240th Avenue, SE., Kent, Washington.

NPA: Northwest Center for the Retarded, Seattle, WA.

Contracting Activity: Department of Veterans Affairs, Tacoma, Washington.

Service Type/Location: Custodial Services, Wayne L. Morse Federal Courthouse, 455 E. 8th Avenue, Eugene, Oregon.

NPA: Garten Services, Inc., Salem, Oregon.

Contracting Activity: GSA, Public Buildings Service—Region 10, Auburn, Washington.

Service Type/Location: Document Destruction, Internal Revenue Service, 474 South Court Street, Room 361, Montgomery, Alabama.

Service Type/Location: Document Destruction, Internal Revenue Service,801 Tom Martin Drive, Birmingham, Alabama.

NPA: United Cerebral Palsy of Greater Birmingham, Inc., Birmingham, Alabama.

Contracting Activity: U.S. Treasury, IRS, Chamblee, Georgia.

Sheryl D. Kennerly,
Director, Information Management.

[FR Doc. E6-9442 Filed 6-15-06; 8:45 am]

BILLING CODE 6353-01-P